DEPARTMENT OF TRANSPORTATION

[Docket No. MARAD-4910-81-P]

Agency Requests for Renewal of a Previously Approved Information Collection(s): Approval of Underwriters of Marine Hull Insurance

AGENCY: Maritime Administration.

ACTION: Notice and request for comments.

SUMMARY: The Department of Transportation (DOT) invites public comments about our intention to request the Office of Management and Budget (OMB) approval to renew an information collection. We are required to publish this notice in the Federal Register by the Paperwork Reduction Act of 1995, Public Law 104-13.

DATES: Written comments should be submitted by December 30, 2013.

ADDRESSES: You may submit comments identified by Docket No. MARAD-2013-0112 through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays. For access to the docket to read background documents or comments received, go to http://www.regulations.gov.

Note: All comments received will be posted without change to http://www.redulations.gov including any personal information provided.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

FOR FURTHER INFORMATION CONTACT: Michael Yarrington, Chief, Office of Marine Insurance, Maritime Administration, U.S. Department of Transportation, 1200 New Jersey Avenue SE., Washington, DC 20590. Copies of this collection can also be obtained from that office.

SUPPLEMENTARY INFORMATION: OMB Control Number: 2133-0517.

Title: Approval of Underwriters of Marine Hull Insurance.

Form Numbers: None.

Type of Review: Renewal of an information collection.

Summary of Collection of Information: This collection of information involves the approval of marine hull underwriters to insure Maritime Administration program vessels. Foreign and domestic applicants will be required to submit financial data upon which Maritime Administration approval would be based.

Need and Use of the Information: The information is needed in order for Maritime Administration officials to evaluate the underwriters and determine their suitability for providing marine hull insurance on Maritime Administration vessels.

Respondents: Marine insurance brokers and underwriters of marine insurance.

Number of Respondents: 62.

Frequency: Annually.

Number of Responses: 62.

Total Annual Burden: 46 hours.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1.93.

Dated: October 24, 2013.
Julie P. Agarwal,
Secretary, Maritime Administration.

[FR Doc. 2013-25621 Filed 10-29-13; 8:45 am]

BILLING CODE 4910-81-P